ENVIRONMENTAL PROTECTION AGENCY

[EPA-R10-OAR-2010-0858; FRL-9218-7; EPA ICR No. 2020.05; OMB Control No. 2060-0558]

Agency Information Collection Activities; Proposed Collection; Comment Request; Federal Implementation Plans Under the Clean Air Act for Indian Reservations in Idaho, Oregon, and Washington

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on May 31, 2011. Before submitting the ICR to OMB for review and approval, EPA is soliciting comments on specific aspects of the proposed information collection as described below.

DATES: Comments must be submitted on or before December 28, 2010.

ADDRESSES: Submit your comments, identified by Docket ID No. EPA-R10-OAR-2010-0858, by one of the following methods:

• http://www.regulations.gov: Follow the on-line instructions for submitting comments;

• E-mail: spenillo.justin@epa.gov;

• Fax: (206) 553-0110;

• Mail: Justin A Spenillo, Environmental Protection Agency Region 10, Office of Air, Waste and Toxics (AWT-107), 1200 Sixth Avenue, Suite 900, Seattle, WA 98101;

• Hand Delivery: Environmental Protection Agency, Region 10 Mailroom, 9th Floor, 1200 Sixth Avenue, Seattle, WA 98101. Attention: Justin A Spenillo, Office of Air, Waste and Toxics (AWT-107). Such deliveries are only accepted during normal hours of operation, and special arrangements should be made for deliveries of boxed information.

Instructions: Direct your comments to Docket ID No. EPA-R10-OAR-2010-0858. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. {For additional information about EPA's public docket visit the EPA Docket center homepage at http://www.epa.gov/epahome/dockets.htm.}

FOR FURTHER INFORMATION CONTACT: Justin A Spenillo, Office of Air, Waste and Toxics (AWT-107), Environmental Protection Agency Region 10, 1200 Sixth Avenue, Seattle, WA 98101; telephone number: (206) 553-6125; fax number: (206) 553-0110; e-mail address: spenillo.justin@epa.gov.

SUPPLEMENTARY INFORMATION:

How can I access the docket and/or submit comments?

EPA has established a public docket for this ICR under Docket ID No. EPA-R10-OAR-2010-0858, which is available for online viewing at http://www.regulations.gov, or in person viewing during normal business hours at the Environmental Protection Agency Region 10, Office of Air, Waste and Toxics (AWT-107), 1200 Sixth Avenue, Seattle, WA.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA and 5 C.F.R. 1320.8(d)(1), EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

[Docket ID No. EPA-R10-OAR-2010-0858.]

Affected entities: Entities potentially affected by this action include owners and operators of air emission sources in all industry groups and Tribal governments, located in the identified Indian reservations. Categories and entities potentially affected by this action are expected to include:

Category | NAICS ᵃ | Examples of regulated entities
Industry | 4471 | Gasoline station storage tanks and refueling.
| 5614 | Lumber manufacturer support.
| 21211 | Coal mining.
| 31332 | Surface coating operation.
| 33712 | Furniture manufacture.
| 56221 | Medical waste incinerator.
| 115112 | Repellent and fertilizer applications.
| 211111 | Natural gas plant.
| 211111 | Oil and gas production.
| 211112 | Fractionation of natural gas liquids.
| 212234 | Copper mining and processing.
| 212312 | Stone quarrying and processing.
| 212313 | Stone quarrying and processing.
| 212321 | Sand and gravel production.
| 221112 | Power plant—coal-fired.
| 221119 | Power plant—biomass fueled.
| 221119 | Power plant—landfill gas fired.
| 221210 | Natural gas collection.
| 221210 | Natural gas pipeline.
| 321113 | Sawmill.
| 321911 | Window and door molding manufacturer.
| 323110 | Printing operations.
| 323113 | Surface coating operations.
| 324121 | Asphalt hot mix plants.
| 325188 | Elemental phosphorus plant.
| 325188 | Sulfuric acid plant.
| 331314 | Secondary aluminum production and extrusion.
| 331492 | Cobalt and tungsten recycling.
| 332431 | Surface coating operations.
| 332812 | Surface coating operations.
| 421320 | Concrete batching plant.
| 422510 | Grain elevator.
| 422710 | Crude oil storage and distribution.
| 422710 | Gasoline bulk plant.
| 486110 | Crude oil storage and distribution.
| 486210 | Natural gas compressor station.
| 562212 | Solid waste landfill.
| 811121 | Automobile refinishing shop.
| 812320 | Dry cleaner.
| 111140 | Wheat farming.
| 111998 | All other miscellaneous crop farming.
| 115310 | Support activities for forestry.
Federal government | 924110 | Administration of Air and Water Resources and Solid Waste Management Programs.
State/local/Tribal government | 924110 | Administration of Air and Water Resources and Solid Waste Management Programs.
ᵃ North American Industry Classification System.

This table is not intended to be exhaustive, but rather provides a guide for readers regarding entities potentially affected by this action.

Title: Federal Implementation Plans under the Clean Air Act for Indian Reservations in Idaho, Oregon, and Washington.

ICR number: EPA ICR No. 2020.05, OMB Control No. 2060-0558.

ICR status: This ICR is currently scheduled to expire on May 31, 2011. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: EPA promulgated Federal Implementation Plans (FIPs) under the Clean Air Act for Indian reservations located in Idaho, Oregon, and Washington in 40 CFR part 49 (70 FR 18074, April 8, 2005). The FIPs in the final rule, also referred to as the Federal Air Rules for Indian Reservations in Idaho, Oregon, and Washington (FARR), include information collection requirements associated with the fugitive particulate matter rule in § 49.126, the woodwaste burner rule in § 49.127; the rule for limiting sulfur in fuels in § 49.130; the rule for open burning in § 49.131; the rules for general open burning permits, agricultural burning permits, and forestry and silvicultural burning permits in §§ 49.132, 49.133, and 49.134; the registration rule in § 49.138; and the rule for non-Title V operating permits in § 49.139. EPA uses this information to manage the activities and sources of air pollution on the Indian reservations in Idaho, Oregon, and Washington. EPA believes these information collection requirements are appropriate because they will enable EPA to develop and maintain accurate records of air pollution sources and their emissions, track emissions trends and changes, identify potential air quality problems, allow EPA to issue permits or approvals, and ensure appropriate records are available to verify compliance with these FIPs. The information collection requirements listed above are all mandatory. Regulated entities can assert claims of business confidentiality and EPA will address these claims in accordance with the provisions of 40 CFR part 2, subpart B.

Burden Statement: The annual public reporting and recordkeeping burden for this collection of information is estimated to average 3.69 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 1,694.

Frequency of response: Annual and on occasion.

Estimated total annual burden hours: 6,245.

Estimated total annual costs: $396,245. This includes an estimated labor cost of $396,245, and capital investment and operation and maintenance costs are assumed to be zero.

Are there changes in the estimates from the last approval?

There is an increase of 1,956 hours in the total estimated respondent burden compared with that identified in the ICR currently approved by OMB. This increase reflects adjustments to the burden estimates for this collection using consultation input, historical data, and experience with implementing the FARR. Some components of the burden estimates increased and some components decreased. In most cases, the burden estimates increased based on input from the source consultations. For some provisions the estimates of the number of respondents increased. Some estimates changed based on additional information EPA has gained through implementing the rules.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: October 22, 2010.
Richard Albright,
Director, Office of Air, Waste and Toxics.

[FR Doc. 2010-27453 Filed 10-28-10; 8:45 am]

BILLING CODE 6560-50-P